ENVIRONMENTAL PROTECTION AGENCY

[EPA-HQ-OPP-2022-0163; FRL-9408-04-OCSPP]

Pesticide Product Registration; Receipt of Applications for New Uses—April 2022

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before June 21, 2022.

ADDRESSES: Submit your comments, identified by the docket identification (ID) number and the EPA File Symbol or the EPA Registration Number of interest as shown in the body of this document, by one of the following methods:

• Federal eRulemaking Portal: https://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at https://www.epa.gov/dockets/where-send-comments-epa-dockets.

The latest information on EPA/DC docket access, services and submitting comments is available at https://www.epa.gov/dockets.

FOR FURTHER INFORMATION CONTACT: Charles Smith, Biopesticides and Pollution Prevention Division (BPPD) (7511M), main telephone number: (202) 566-1400, email address: BPPDFRNotices@epa.gov; or Marietta Echeverria, Registration Division (RD) (7505T), main telephone number: (202) 566-1030, email address: RDFRNotices@epa.gov. The mailing address for each contact person: Office of Pesticide Programs, Environmental Protection Agency, 1200 Pennsylvania Ave. NW, Washington, DC 20460-0001. Include the contact person's name, division, and mail code as part of the mailing address. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

B. What should I consider as I prepare my comments for EPA?

1. Submitting CBI. Do not submit this information to EPA through https://www.regulations.gov/ or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Registration Applications

EPA has received applications to register new uses for pesticide products containing currently registered active ingredients. Pursuant to the provisions of FIFRA section 3(c)(4) (7 U.S.C. 136a(c)(4)), EPA is hereby providing notice of receipt and opportunity to comment on these applications. Notice of receipt of these applications does not imply a decision by the Agency on these applications.

Notice of Receipt—New Uses

1. EPA Registration Numbers: 100-727 and 100-1677. Docket ID number: EPA-HQ-OPP-2022-0069. Applicant: Interregional Research Project Number 4 (IR-4), North Carolina State University, 1730 Varsity Drive, Venture IV, Suite 210, Raleigh, NC 27606. Active ingredient: Trinexapac-ethyl. Product type: Herbicide. Proposed use: Clover grown for seed. Contact: RD.

2. EPA Registration Number: 100-993; 100-1017; 100-1103. Docket ID number: EPA-HQ-OPP-2022-0005. Applicant: Syngenta Crop Protection, LLC, P.O. Box 18300, Greensboro, NC 27419. Active ingredient: Fomesafen, 5-[2-chloro-4-(trifluoromethyl)phenoxy]-N-(methylsulfonyl)-2-nitrobenzamide. Product type: Herbicide MUP; herbicide end use product. Proposed use: Vegetable, bulb, group 3-07; vegetable, cucurbit, group 9; vegetable, foliage of legume, except soybean, subgroup 7A; and vegetable, fruiting, group 8-10. Contact: RD.

3. EPA Registration Number: 279-9580; 279-9594. Docket ID number: EPA-HQ-OPP-2021-0388. Applicant: FMC Corporation, 2929 Walnut Street, Philadelphia, PA 19104. Active ingredient: Tribenuron-methyl, methyl-2-[[[[N-(4-methoxy-6-methyl-1,3,5-triazin-2-yl) methylamino] carbonyl] amino] sulfonyl] benzoate. Product type: Herbicide MUP; herbicide end use product. Proposed use: Cottonseed subgroup 20C; rapeseed subgroup 20A; proposed crop subgroup 6-18E: Dried shelled bean, except soybean, subgroup including Adzuki bean, dry seed; African yam-bean, dry seed; American potato bean, dry seed; Andean lupin bean, dry seed; asparagus bean, dry seed; black bean, dry seed; black-eyed pea, dry seed; blue lupin bean, dry seed; broad bean, dry seed; catjang bean, dry seed; Chinese longbean, dry seed; cowpea, dry seed; cranberry bean, dry seed; crowder pea, dry seed; dry bean, dry seed; field bean, dry seed; French bean, dry seed; garden bean, dry seed; goa bean, dry seed; grain lupin bean, dry seed; great northern bean, dry seed; green bean, dry seed; guar bean, dry seed; horse gram, dry seed; jack bean, dry seed; kidney bean, dry seed; lablab bean, dry seed; lima bean, dry seed; morama bean, dry seed; moth bean, dry seed; mung bean, dry seed; navy bean, dry seed; pink bean, dry seed; pinto bean, dry seed; red bean, dry seed; rice bean, dry seed; scarlet runner bean, dry seed; southern pea, dry seed; sweet lupin bean, dry seed; sword bean, dry seed; tepary bean, dry seed; urd bean, dry seed; vegetable soybean, dry seed; velvet bean, seed, dry seed; white lupin bean, dry seed; white sweet lupin bean, dry seed; winged pea, dry seed; yard long bean, dry seed; yellow bean, dry seed; yellow lupin bean, dry seed; individual commodities of proposed crop subgroup 6-18F: Dried shelled pea subgroup including chickpea, dry seed; dry pea, dry seed; field pea, dry seed; garden pea, dry seed; grass-pea, dry seed; green pea, dry seed; lentil, dry seed; pea, field, hay; pea, field, vines; pigeon pea, dry seed; individual commodities of proposed crop subgroup 15-20A: Wheat subgroup including amaranth, grain, forage; amaranth, grain, grain; amaranth, grain, hay; amaranth, grain, straw; amaranth, purple, forage; amaranth, purple, grain; amaranth, purple, hay; amaranth, purple, straw; cañihua, forage; cañihua, grain; cañihua, hay; cañihua, straw; chia, forage; chia, grain; chia, hay; chia, straw; cram cram, forage; cram cram, grain; cram cram, hay; cram cram, straw; huauzontle, grain, forage; huauzontle, grain, grain; huauzontle, grain, hay; huauzontle, grain, straw; Inca wheat, forage; Inca wheat, grain; Inca wheat, hay; Inca wheat, straw; princess feather, forage; princess feather, grain; princess feather, hay; princess feather, straw; psyllium, forage; psyllium, grain; psyllium, hay; psyllium, straw; psyllium, blond, forage; psyllium, blond, grain; psyllium, blond, hay; psyllium, blond, straw; quinoa, forage; quinoa, grain; quinoa, hay; quinoa, straw; rye, forage; rye, grain; rye, hay; rye, straw; triticale, forage; triticale, grain; triticale, hay; triticale, straw; wheat, club, forage; wheat, club, grain; wheat, club, hay; wheat, club, straw; wheat, common, forage; wheat, common, grain; wheat, common, hay; wheat, common, straw; wheat, durum, forage; wheat, durum, grain; wheat, durum, hay; wheat, durum, straw; wheat, einkorn, forage; wheat, einkorn, grain; wheat, einkorn, hay; wheat, einkorn, straw; wheat, emmer, forage; wheat, emmer, grain; wheat, emmer, hay; wheat, emmer, straw; wheat, macha, forage; wheat, macha, grain; wheat, macha, hay; wheat, macha, straw; wheat, oriental, forage; wheat, oriental, grain; wheat, oriental, hay; wheat, oriental, straw; wheat, Persian, forage; wheat, Persian, grain; wheat, Persian, hay; wheat, Persian, straw; wheat, Polish, forage; wheat, Polish, grain; wheat, Polish, hay; wheat, Polish, straw; wheat, poulard, forage; wheat, poulard, grain; wheat, poulard, hay; wheat, poulard, straw; wheat, shot, forage; wheat, shot, grain; wheat, shot, hay; wheat, shot, straw; wheat, spelt, forage; wheat, spelt, grain; wheat, spelt, hay; wheat, spelt, straw; wheat, timopheevi, forage; wheat, timopheevi, grain; wheat, timopheevi, hay; wheat, timopheevi, straw; wheat, vavilovi, forage; wheat, vavilovi, grain; wheat, vavilovi, hay; wheat, vavilovi, straw; wheat, wild einkorn, forage; wheat, wild einkorn, grain; wheat, wild einkorn, hay; wheat, wild einkorn, straw; wheat, wild emmer, forage; wheat, wild emmer, grain; wheat, wild emmer, hay; wheat, wild emmer, straw; wheatgrass, intermediate, forage; wheatgrass, intermediate, grain; wheatgrass, intermediate, hay; wheatgrass, intermediate, straw; individual commodities of proposed crop subgroup 15-20B: Barley subgroup including buckwheat, grain; buckwheat, hay; buckwheat, straw; buckwheat, tartary, grain; buckwheat, tartary, hay; buckwheat, tartary, straw; canary grass, annual, grain; canary grass, annual, hay; canary grass, annual, straw; oat, hay; oat, Abyssinian, grain; oat, Abyssinian, hay; oat, Abyssinian, straw; oat, common, grain; oat, common, hay; oat, common, straw; oat, naked, grain; oat, naked, hay; oat, naked, straw; oat, sand, grain; oat, sand, hay; oat, sand, straw; individual commodities of proposed crop subgroup 15-20C field corn subgroup including popcorn, forage; popcorn, grain; popcorn, stover; teosinte, forage; teosinte, grain; teosinte, stover; individual commodities of proposed crop subgroup 15-20E grain sorghum and millet subgroup including fonio, black, forage; fonio, black, grain; fonio, black, stover; fonio, white, forage; fonio, white, grain; fonio, white, stover; job's tears, forage; job's tears, grain; job's tears, stover; millet, barnyard, forage; millet, barnyard, grain; millet, barnyard, stover; millet, finger, forage; millet, finger, grain; millet, finger, stover; millet, foxtail, forage; millet, foxtail, grain; millet, foxtail, stover; millet, little, forage; millet, little, grain; millet, little, stover; millet, pearl, forage; millet, pearl, grain; millet, pearl, stover; millet, proso, forage; millet, proso, grain; millet, proso, stover; teff, forage; teff, grain; teff, stover; individual commodities of proposed crop subgroup 15-20F rice subgroup including rice, African, grain; wild rice, grain; wild rice, eastern, grain. Contact: RD.

4. EPA Registration Numbers: 42750-UNE and 42750-UNG. Docket ID number: EPA-HQ-OPP-2021-0634. Applicant: Albaugh, LLC, 1535 36th St. NE, Ankeny, IA 50021. Active ingredient: Oxyfluorfen. Product type: Herbicide. Proposed uses: Rice. Contact: RD.

5. EPA Registration Numbers: 70506-60 and 91813-18. Docket ID number: EPA-HQ-OPP-2022-0361. Applicant: Interregional Research Project Number 4 (IR-4), North Carolina State University, 1730 Varsity Drive, Venture IV, Suite 210, Raleigh, NC 27606. Active ingredient: Acifluorfen. Product type: Herbicide. Proposed use: Edamame and a crop group expansion to low-growing berry subgroup 13-07. Contact: RD.

6. EPA Registration Numbers: 71512-28, 71512-29. Docket ID number: EPA-HQ-OPP-2022-0198. Applicant: ISK Biosciences Corporation, 7470 Auburn Road, Suite A, Concord, Ohio, 44077. Active ingredient: Tolpyralate. Product type: Herbicide. Proposed uses: Wheat and Barley. Contact: RD.

7. EPA Registration Numbers: 91813-76, 70506-536, and 70506-539. Docket ID number: EPA-HQ-OPP-2022-0300. Applicant: Interregional Research Project Number 4 (IR-4), North Carolina State University, 1730 Varsity Drive, Venture IV, Suite 210, Raleigh, NC 27606. Active ingredient: Bifenazate. Product type: Insecticide. Proposed Uses: Banana and bushberry subgroup 13-07B; cherry subgroup 12-12A; cottonseed subgroup 20C; nut, tree, group 14-12; peach subgroup 12-12B; plantain; plum subgroup 12-12C; tropical and subtropical, small fruit, inedible peel, subgroup 24A; individual crops of edible podded bean legume vegetable subgroup 6-18A; individual crops of edible podded pea legume vegetable subgroup 6-18B; individual crops of succulent shelled bean subgroup 6-18C; individual crops of succulent shelled pea subgroup 6-18D; and individual crops of dried shelled bean, except soybean subgroup 6-18E. Contact: RD.

8. EPA Registration Numbers: 59639-185 and 59639-186. Docket ID number: EPA-HQ-OPP-2022-0385. Applicant: Valent U.S.A. LLC,4600 Norris Canyon Road San Ramon, CA 94583. Active ingredient: Ethaboxam. Product type: Fungicide. Proposed Use: Seed treatment on alfalfa. Contact: RD.

9. EPA Registration Number: 94339-1. Docket ID number: EPA-HQ-OPP-2022-0393. Applicant: Better Air International Limited, Unit 705, China Insurance Group Building, 141 Des Voeux Road Central, Hong Kong (c/o toXcel LLC, 7140 Heritage Village Plaza, Gainesville, VA 20155-3061). Active ingredients: Bacillus subtilis strain 3, bacillus subtilis strain 281, and bacillus amyloliquefaciens strain 298. Product type: Bactericide and fungicide. Proposed use: Indoor automatic dispenser for the control or suppression of odor-causing and discoloration-causing bacterial and fungal growth in commercial and residential areas. Contact: BPPD.

Authority: 7 U.S.C. 136 et seq.

Dated: May 12, 2022.
Brian Bordelon,
Acting Director, Information Technology and Resources Management Division, Office of Program Support.

[FR Doc. 2022-10849 Filed 5-19-22; 8:45 am]

BILLING CODE 6560-50-P